Proclamation 9892 of May 17, 2019

Armed Forces Day, 2019

By the President of the United States of America

A Proclamation

From Normandy and Iwo Jima through Operations Desert Storm and Inherent Resolve, our Nation's Armed Forces have consistently made us proud by defeating our enemies and defending the freedoms we cherish. Their bravery, love of country, and devotion to duty are unmatched, and we are eternally grateful for the sacrifices they make for all American citizens. On Armed Forces Day, we honor all of the Soldiers, Sailors, Airmen, Marines, and Coast Guardsmen who make up the finest military in the world.

Every day, tens of thousands of American troops risk their lives and sacrifice time with their families and friends to protect our national security and keep us safe. Through their strength and dedication to our country, they protect our freedoms, interests, and way of life at duty stations all around the world. We thank them for their incredible service, and we recognize that our Nation has a sacred obligation to ensure that our Armed Forces remain ready and fully equipped to face any threat.

As President, I am committed to empowering America's warriors with every advantage they need to fulfill their missions. During the last 2 years, our Armed Forces have had one victory after another against ISIS, culminating in March with the liberation of 100 percent of the territory once held by ISIS in Syria and Iraq. We are encouraged by this tremendous success, and it is important that our military remains the strongest in the world. This is one of my Administration's highest priorities, and I have called on the Congress to increase funding for our national defense by $34 billion over last year's level. These additional resources are vital to enhancing our capabilities at sea, on the ground, in the air, and in space and guaranteeing that America's military never falls behind.

I also continue to advocate for our service members to receive increased support, which they deserve for bearing the burden of defending our freedoms. Last year, I signed into law the largest pay raise for our troops in 9 years, and, for 2020, I have called on the Congress to provide a 3.1 percent pay raise. This 3.1 percent raise would be the largest pay raise for our troops in 10 years and would further demonstrate our Nation's gratitude to the more than 2.1 million active duty and reserve military men and women.

Our courageous and vigilant Armed Forces safeguard the blessings of liberty for us and for future generations by selflessly answering the call of duty. Today, and every day, we acknowledge and celebrate all who proudly wear our Nation's uniforms and the family members who face unique challenges as they tirelessly support them.

NOW, THEREFORE, I, DONALD J. TRUMP, President of the United States of America, and Commander in Chief of the Armed Forces of the United States, continuing the tradition of my predecessors in office, do hereby proclaim the third Saturday of each May as Armed Forces Day.

I invite the Governors of the States and Territories and other areas subject to the jurisdiction of the United States to provide for the observance of Armed Forces Day within their jurisdiction each year in an appropriate manner designed to increase public understanding and appreciation of the Armed Forces of the United States. I also invite veterans, civic, and other organizations to join in the observance of Armed Forces Day each year.

Finally, I call upon all Americans to display the flag of the United States at their homes and businesses on Armed Forces Day, and I urge citizens to learn more about military service by attending and participating in the local observances of the day.

Proclamation 9753 of May 18, 2018, is hereby superseded.

IN WITNESS WHEREOF, I have hereunto set my hand this seventeenth day of May, in the year of our Lord two thousand nineteen, and of the Independence of the United States of America the two hundred and forty-third.

[FR Doc. 2019-10867

Filed 5-21-19; 11:15 am]

Billing code 3295-F9-P